DEPARTMENT OF COMMERCE

International Trade Administration

[A-351-804]

Industrial Nitrocellulose From Brazil: Notice of Initiation of Changed Circumstances Review and Consideration of Revocation of the Antidumping Duty Order

AGENCY: Import Administration, International Trade Administration, Department of Commerce.

ACTION: Notice of initiation of changed circumstances review.

SUMMARY: In accordance with 19 CFR 351.216(b), Nitro Quimica Brasileira, a Brazilian exporter of subject merchandise and an interested party in this proceeding, filed a request for a changed circumstances review of the antidumping duty order on industrial nitrocellulose from Brazil, as described below. In response to this request, the Department of Commerce is initiating a changed circumstances review of the antidumping duty order on industrial nitrocellulose from Brazil.

EFFECTIVE DATE: February 25, 2004.

FOR FURTHER INFORMATION CONTACT: Michael J. Heaney or Robert James, AD/CVD Enforcement Group III, Import Administration, International Trade Administration, U.S. Department of Commerce, 14th Street and Constitution Avenue, NW., Washington, DC 20230; telephone: (202) 482-4475 or (202) 482-0649, respectively.

SUPPLEMENTARY INFORMATION:

Background

On July 10, 1990, the Department published in the Federal Register the antidumping duty order on industrial nitrocellulose from Brazil. See Antidumping Duty Order: Industrial Nitrocellulose From Brazil, 55 FR 28266 (July 10, 1990). On December 31, 2003, Nitro Quimica Brasileira (Nitro Quimica), a Brazilian exporter of subject merchandise and an interested party in this proceeding, requested that the Department revoke the antidumping duty order on industrial nitrocellulose from Brazil through a changed circumstances review. According to Nito Quimica, revocation is warranted because of “lack of interest” on behalf of the U.S. industry. Specifically, Nitro Quimeca asserts that no domestic producer of industrial nitrocellulose currently exists. Nitro Quimica asserts that Hercules Incorporated, the only petitioner in the original investigation and the only U.S. producer at the time in which this order was issued, sold its nitrocellulose business to Green Tree Chemical Technologies (Green Tree) on June 16, 2001. Nitro Quimica further contends that Green Tree has closed its U.S. production facility on about November 26, 2003. (See Nitro Quimica December 31, 2003 letter at Attachment 3.) Nitro Quimica asserts that the effective date of the revocation should be “retroactive to the date on which Green Tree ceased its U.S. production” (Nitro Quimica December 31, 2003 letter at page 2).

Scope of the Review

The product covered by this review is industrial nitrocellulose, currently classifiable under HTS subheading 3912.20.00. The HTS item number is provided for convenience and Customs purposes. The written description remains dispositive as to the scope of the product coverage.

Industrial nitrocellulose is a dry, white, amorphous synthetic chemical with a nitrogen content between 10.8 and 12.2 percent. Industrial nitrocellulose is used as a film-former in coatings, lacquers, furniture finishes, and printing inks. The scope of this order does not include explosive grade nitrocellulose, which has a nitrogen content of greater than 12.2 percent.

Initiation of Changed Circumstances Review

Pursuant to section 782(h)(2) of the Tariff Act of 1930, as amended (the Tariff Act), the Department may revoke an antidumping or countervailing duty order based on a review under section 751(b) of the Tariff Act (i.e., a changed circumstances review). Section 751(b)(1) of the Tariff Act requires a changed circumstances review to be conducted upon receipt of a request which shows changed circumstances sufficient to warrant a review. 19 CFR 351.222(g) provides that the Department will conduct a changed circumstances review under 19 CFR 351.216 and may revoke an order (in whole or in part) if it determines that producers accounting for substantially all of the production of the domestic like product to which the order (or the part of the order to be revoked) pertains have expressed a lack of interest in the relief provided by the order, in whole or in part, or if changed circumstances exist sufficient to warrant revocation.

In this case, the Department finds that the information submitted provides sufficient evidence of changed circumstances to warrant a review. Given Nitro Quimica's assertions, we will consider whether there is interest in continuing the order on the part of the U.S. industry.

Interested parties may submit comments for consideration in the Department's preliminary results. (These comments may include the effective date proposed by Nitro Quimica for revocation of this order.) The due date for filing any such comments is no later than 20 days after publication of this notice. Responses to those comments may be submitted not later than 10 days following submission of the comments. All written comments must be submitted in accordance with 19 CFR 351.303, and must be served on all interested parties on the Department's service list in accordance with 19 CFR 351.303.

The Department will publish in the Federal Register a notice of preliminary results of changed circumstances review, in accordance with 19 CFR 351.221(c)(3)(i), which will set forth the factual and legal conclusions upon which our preliminary results are based, and a description of any action proposed based on those results. The Department will also issue its final results of review within 270 days after the date on which the changed circumstances review is initiated, in accordance with 19 CFR 351.216(e), and will publish these results in the Federal Register.

While the changed circumstances review is underway, the current requirement for a cash deposit of estimated antidumping duties on all subject merchandise will continue unless and until it is modified pursuant to the final results of this changed circumstances review.

This notice is in accordance with sections 751(b)(1) of the Act and 19 CFR 351.216 and 351.222.

Dated: February 19, 2004.
James J. Jochum,
Assistant Secretary for Import Administration.

[FR Doc. 04-4142 Filed 2-24-04; 8:45 am]

BILLING CODE 3510-DS-P